DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2022, through March 31, 2022. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Maxwell Manley, Phoenix, Arizona, Court of Federal Claims No: 22-0227V

2. Brendan Bixel, Portland, Oregon, Court of Federal Claims No: 22-0228V

3. Nancy Purcell, Tinley Park, Illinois, Court of Federal Claims No: 22-0231V

4. William Watkins, Norman, Oklahoma, Court of Federal Claims No: 22-0232V

5. Robert Thomson, Woods Cross, Utah, Court of Federal Claims No: 22-0234V

6. Maise Johnson, Springfield, Massachusetts, Court of Federal Claims No: 22-0235V

7. Danae Denton, Chicago, Illinois, Court of Federal Claims No: 22-0238V

8. Khair M. Issa, Woodbridge, Virginia, Court of Federal Claims No: 22-0240V

9. Danielle Poore, Palo Alto, California, Court of Federal Claims No: 22-0241V

10. Margaret Chalgren, Minneapolis, Minnesota, Court of Federal Claims No: 22-0245V

11. Meredith Perry on behalf of L. P., Phoenix, Arizona, Court of Federal Claims No: 22-0246V

12. Teresa Donovan, Seattle, Washington, Court of Federal Claims No: 22-0249V

13. Dana Bertucci on behalf of D. A., Chicago, Illinois, Court of Federal Claims No: 22-0250V

14. Marivic Malolos, Fontana, California, Court of Federal Claims No: 22-0251V

15. Jennifer Goldson and Brian Goldson on behalf of J. G., Phoenix, Arizona, Court of Federal Claims No: 22-0254V

16. Paul E. Saliba, Dallastown, Pennsylvania, Court of Federal Claims No: 22-0257V

17. Myrtle Barrett, Kershaw, South Carolina, Court of Federal Claims No: 22-0258V

18. Stanley Hatch, Goleta, Florida, Court of Federal Claims No: 22-0260V

19. David Strike, Colorado Springs, Colorado, Court of Federal Claims No: 22-0262V

20. Lawrence Knight, Royston, Georgia, Court of Federal Claims No: 22-0263V

21. Timothy M. Kinman, Los Angeles, California, Court of Federal Claims No: 22-0264V

22. Deborah DeFosses, Westerly, Rhode Island, Court of Federal Claims No: 22-0265V

23. Gertrude Teresa McCleary, Evansville, Indiana, Court of Federal Claims No: 22-0266V

24. Karen A. Bramen, Sudbury, Massachusetts, Court of Federal Claims No: 22-0268V

25. Katherine Showalter, Phoenix, Arizona, Court of Federal Claims No: 22-0270V

26. Margo Moses, Cape May, New Jersey, Court of Federal Claims No: 22-0271V

27. Kathy F. McMurty, Brentwood, Tennessee, Court of Federal Claims No: 22-0272V

28. Scott Egan, Madeira, Ohio, Court of Federal Claims No: 22-0273V

29. Martha Kememu, Bronx, New York, Court of Federal Claims No: 22-0275V

30. Lilian Amador on behalf of L. H., Deceased, East Setauket, New York, Court of Federal Claims No: 22-0276V

31. John Piermatteo, York, Pennsylvania, Court of Federal Claims No: 22-0277V

32. Lance Trollop, Wausau, Wisconsin, Court of Federal Claims No: 22-0278V

33. Mandy White, Milford, Utah, Court of Federal Claims No: 22-0280V

34. Shannon Puffinberger, Winchester, Virginia, Court of Federal Claims No: 22-0281V

35. Dermott Whalen, New York, New York, Court of Federal Claims No: 22-0282V

36. Huong Garrett, San Rafael, California, Court of Federal Claims No: 22-0283V

37. Cassie Karpenski, Panama, Oklahoma, Court of Federal Claims No: 22-0284V

38. Diane Janni on behalf of the Estate of Joseph Janni, Deceased, Albuquerque, New Mexico, Court of Federal Claims No: 22-0285V

39. Randy Patton, Springfield, Missouri, Court of Federal Claims No: 22-0286V

40. Stephan Dias, Jericho, New York, Court of Federal Claims No: 22-0287V

41. Jodi Lawton and Christi Kirkland on behalf of the Estate of Grace L. Sharpe, Deceased, Allendale, South Carolina, Court of Federal Claims No: 22-0288V

42. Ricky Steward, Elko, Nevada, Court of Federal Claims No: 22-0289V

43. William C. Bodie, Lexington, South Carolina, Court of Federal Claims No: 22-0290V

44. John Paul Tucker, Dardanelle, Arkansas, Court of Federal Claims No: 22-0293V

45. Alexis Mae Montgomery, North Bend, Washington, Court of Federal Claims No: 22-0294V

46. Maria Kabayan, Arcadia, California, Court of Federal Claims No: 22-0298V

47. Evelyn Castle, Vacaville, California, Court of Federal Claims No: 22-0299V

48. Jennifer Callies, Virginia Beach, Virginia, Court of Federal Claims No: 22-0301V

49. Edith Murray, Portland, Oregon, Court of Federal Claims No: 22-0303V

50. Charles E. Mandril, Westminster, Colorado, Court of Federal Claims No: 22-0305V

51. Trudi Donovan, Pueblo, Colorado, Court of Federal Claims No: 22-0306V

52. Paul Holleran, Shrewsbury, Massachusetts, Court of Federal Claims No: 22-0307V

53. Deanna Robitille, Wauwatosa, Wisconsin, Court of Federal Claims No: 22-0309V

54. Darrell Clofer, Luling, Louisiana, Court of Federal Claims No: 22-0310V

55. Sophianne Taguacta and Timothy Taguacta on behalf of B. T., Bullhead City, Arizona, Court of Federal Claims No: 22-0311V

56. Barbara Castelein, Rutherford, New Jersey, Court of Federal Claims No: 22-0312V

57. Susan Donnewald on behalf of Dwight D. Donnewald, Jr., Deceased, Durand, Illinois, Court of Federal Claims No: 22-0313V

58. Pamela Cavanaugh, Waconia, Minnesota, Court of Federal Claims No: 22-0314V

59. Elizabeth Roberts on behalf of R. R., Phoenix, Arizona, Court of Federal Claims No: 22-0315V

60. Christopher Ciunci on behalf of J. C., East Greenwich, Rhode Island, Court of Federal Claims No: 22-0316V

61. Brandie C. Pitts, Biloxi, Mississippi, Court of Federal Claims No: 22-0318V

62. Farideh Fakhimnia, Santa Clarita, California, Court of Federal Claims No: 22-0319V

63. Harold E. Kaplan, Asheville, North Carolina, Court of Federal Claims No: 22-0320V

64. Christine Prescott, Atlanta, Georgia, Court of Federal Claims No: 22-0321V

65. Heather Peterson, Des Plaines, Illinois, Court of Federal Claims No: 22-0322V

66. Bruce Matzner, Laguna Beach, California, Court of Federal Claims No: 22-0323V

67. Amy Martineau Jereb, Norfolk, Virginia, Court of Federal Claims No: 22-0324V

68. Staci Arnold, Niagara Falls, New York, Court of Federal Claims No: 22-0326V

69. Logan Dunn, Chalfont, Pennsylvania, Court of Federal Claims No: 22-0327V

70. Aura Beattie on behalf of E. C., Phoenix, Arizona, Court of Federal Claims No: 22-0328V

71. John Cherry, New York, New York, Court of Federal Claims No: 22-0331V

72. David Kirsch, Philadelphia, Pennsylvania, Court of Federal Claims No: 22-0332V

73. Timothy Shrum, Washington, District of Columbia, Court of Federal Claims No: 22-0333V

74. Victoria Weinfeld, North Miami Beach, Florida, Court of Federal Claims No: 22-0334V

75. Charles Taylor, New York, New York, Court of Federal Claims No: 22-0335V

76. Dorothy Pohl, Papillion, Nebraska, Court of Federal Claims No: 22-0336V

77. Henry Ricci, Pittsgrove, New Jersey, Court of Federal Claims No: 22-0337V

78. Stephen Martin, Vancouver, Washington, Court of Federal Claims No: 22-0338V

79. Lenka Valentine, Ashburn, Virginia, Court of Federal Claims No: 22-0340V

80. Ronald Iverson, Duluth, Minnesota, Court of Federal Claims No: 22-0343V

81. Ilona Clitus, Phoenix, Arizona, Court of Federal Claims No: 22-0347V

82. Mae Macaluso, Smithtown, New York, Court of Federal Claims No: 22-0367V

83. Monya Rowe, New York, New York, Court of Federal Claims No: 22-0368V

84. Alex Bratcher, Jr., Jacksonville, Florida, Court of Federal Claims No: 22-0369V

85. William Alverson, Roswell, Georgia, Court of Federal Claims No: 22-0370V

[FR Doc. 2022-08417 Filed 4-19-22; 8:45 am]

BILLING CODE 4165-15-P